DEPARTMENT OF LABOR

Employment and Training Administration

[TA-W-73,916]

Catawba Sox, LLC Formerly Known as Catawba Sox, Inc. Including Workers Whose Unemployment Insurance UI) Wages Are Paid Through Ellis Hosiery Mill, LLC, Newton, NC; Amended Certification Regarding Eligibility To Apply for Worker Adjustment Assistance

In accordance with Section 223 of the Trade Act of 1974, as amended (“Act”), 19 U.S.C. 2273, the Department of Labor issued a Certification of Eligibility to Apply for Worker Adjustment Assistance on July 15, 2010, applicable to workers of Catawba Sox, LLC, formerly known as Catawba Sox, Inc., Newton, North Carolina. The notice was published in the Federal Register on August 2, 2010 (75 FR 45162).

At the request of the State agency, the Department reviewed the certification for workers of the subject firm. The workers produce athletic socks.

Information shows that some workers separated from employment at the Newton, North Carolina location of Catawba Sox, LLC, formerly known as Catawba Sox, Inc., had their wages reported under a separated unemployment insurance (UI) tax account under the name Ellis Hosiery Mill, LLC, formerly known as Catawba Sox, LLC.

Accordingly, the Department is amending this certification to properly reflect this matter.

The intent of the Department's certification is to include all workers of the subject firm who were adversely affected by company imports of athletic socks.

The amended notice applicable to TA-W-73,916 is hereby issued as follows:

“All workers of Catawba Sox, LLC, formerly known as Catawba Sox, Inc., including workers whose unemployment insurance (UI) wages are paid through Ellis Hosiery Mill, LLC, Newton, North Carolina, who became totally or partially separated from employment on or after April 13, 2009 through July 15, 2012, and all workers in the group threatened with total or partial separation from employment on date of certification through two years from the date of certification, are eligible to apply for adjustment assistance under Chapter 2 of Title II of the Trade Act of 1974, as amended.”

Signed at Washington, DC, January 13, 2011.
Del Min Amy Chen,
Certifying Officer, Office of Trade Adjustment Assistance.

[FR Doc. 2011-1620 Filed 1-25-11; 8:45 am]

BILLING CODE 4510-FN-P